DEPARTMENT OF DEFENSE

GENERAL SERVICES ADMINISTRATION

NATIONAL AERONAUTICS AND SPACE ADMINISTRATION

48 CFR Parts 16 and 39

[FAR Case 2003-008]

RIN 9000-AJ74; Docket 2006-0015

Federal Acquisition Regulation; FAR Case 2003-008, Share-In-Savings Contracting

AGENCIES: Department of Defense (DoD), General Services Administration (GSA), and National Aeronautics and Space Administration (NASA).

ACTION: Proposed rule; withdrawal.

SUMMARY: The Civilian Agency Acquisition Council and the Defense Acquisition Regulations Council (Councils) have agreed to withdraw the proposed rule, FAR case 2003-008, Share-in-Savings Contracting, which was published in the Federal Register on July 2, 2004. The rule proposed amending the Federal Acquisition Regulation (FAR) as it pertains to types of contracts and acquisition of information technology to address the inclusion of Share-in-Savings (SIS) contracting. However, the SIS concept was not reauthorized by Congress.

FOR FURTHER INFORMATION CONTACT: For clarification of content, contact Mr. Kenneth Buck at (202) 219-0311. Please cite FAR case 2003-008. For information pertaining to status or publication schedules, contact the FAR Secretariat, Room 4035, GS Building, Washington, DC 20405, (202) 501-4755.

Dated: January 24, 2006.
Gerald Zaffos,
Director, Contract Policy Division.

[FR Doc. 06-816 Filed 1-27-06; 8:45 am]

BILLING CODE 6820-EP-S